DEPARTMENT OF LABOR

Occupational Safety and Health Administration

OSHA Training Institute Education Centers

AGENCY: Occupational Safety and Health Administration (OSHA), Labor.

ACTION: Notice of competition and request for applications for the OSHA Training Institute Education Centers Program.

SUMMARY: The Occupational Safety and Health Administration (OSHA) conducts short-term technical training in occupational safety and health through the OSHA Training Institute in Des Plaines, Illinois. In recent years, the number of requests for training from private sector personnel and Federal personnel from agencies other than OSHA has increased beyond the capacity of the OSHA Training Institute to meet the demand. In October 1992 OSHA began the program of using other training and educational institutions to conduct OSHA Training Institute courses for private sector personnel and for Federal personnel from agencies other than OSHA.

This notice announces the opportunity for interested nonprofit organizations to submit applications to become an OSHA Training Education Center. Applications will be rated on a competitive basis and approximately ten organizations will be selected to participate in the program. Complete application instructions are contained in this notice. This notice also contains information on three proposal conferences designed to provide potential applicants with information about the OSHA Training Institute Education Centers Program.

Authority for this program may be found in section 21 of the Occupational Safety and Health Act of 1970 (29 U.S.C. 670).

DATES: Applications must be received by 4:30 pm CST on May 24, 2002.

The proposal conference dates are:

1. March 19, 2002, from 1 pm to 3 pm PST, 71 Stevenson Street, Room 1010, San Francisco, California.

2. March 26, 2002, from 1 pm to 3 pm EST, Gateway Building, 3535 Market Street, Conference Rooms A & B, Suite 690 West, Philadelphia, Pennsylvania 19104.

3. April 4, 2002, from 1 pm to 3 pm CST, at the OSHA Office of Training and Education, 1555 Times Drive, Des Plaines, Illinois 60018.

ADDRESSES: Submit applications to the U.S. Department of Labor, Occupational Safety and Health Administration, Office of Training and Education, Division of Training and Educational Programs, 1555 Times Drive, Des Plaines, Illinois 60018.

FOR FURTHER INFORMATION CONTACT: Ronald Mouw, Deputy Director, or Ernest B. Thompson, Chief, Division of Training and Educational Programs, OSHA Office of Training and Education, 1555 Times Drive, Des Plaines, Illinois 60018, telephone (847) 297-4810.

SUPPLEMENTARY INFORMATION:

What Is the OSHA Training Institute?

The OSHA Training Institute in Des Plaines, Illinois, is the primary training provider of the Occupational Safety and Health Administration. It conducts more than 80 short-term courses and seminars covering OSHA standards, policies, and procedures for persons responsible for enforcing or directly supporting the OSH Act, for private sector employers and employees, and Federal personnel from agencies other than OSHA. The OSHA Training Institute's primary responsibility is to Federal and State compliance officers and State consultation program staff. Private sector personnel and Federal personnel from agencies other than OSHA receive training from the OSHA Training Institute on a space available basis.

Why Was the OSHA Training Institute Education Centers Program Established?

By the early 1990's, requests for training from Federal and State compliance officers, State consultation program staff, private sector personnel, and Federal personnel from agencies other than OSHA had increased beyond the capacity of the OSHA Training Institute to meet the demand. In addition, resources of the OSHA Training Institute had not increased at a rate that could keep up with the demand. As the number of students from Federal and State personnel engaged in enforcement or consultation increased, opportunities for training for private sector personnel and Federal personnel from agencies other than OSHA remained static or decreased.

In order to meet the increased demand for its courses, the OSHA Training Institute selected 12 nonprofit organizations to conduct OSHA Training Institute courses for private sector personnel and Federal personnel from agencies other than OSHA. These organizations were selected through nationwide or regional competitions.

Which Organizations Are Currently OSHA Training Institute Education Centers?

The current OSHA Training Institute Education Centers are: Keene State College, Manchester, New Hampshire; Niagara County Community College, Lockport, New York; Building and Construction Trades Department AFL-CIO/Center to Protect Workers' Rights/The George Meany Center for Labor Studies/West Virginia Safety and Health Extension, Washington, DC; Georgia Technical Research Institute, Atlanta, Georgia; Eastern Michigan University/United Auto Workers, Ypsilanti, Michigan; University of Minnesota/Minnesota Safety Council/University of Cincinnati, Minneapolis, Minnesota; Northern Illinois University/Construction Safety Council/National Safety Council, DeKalb, Illinois; Texas Engineering Extension Service, Texas A&M University System, Mesquite, Texas; Metropolitan Community Colleges, Business & Technology Center, Kansas City, Missouri; Red Rocks Community College/Trinidad State Junior College, Lakewood, Colorado; University of California, San Diego, California; and the University of Washington, Seattle, Washington.

How Many OSHA Training Institute Education Centers Will Be Selected?

At least ten colleges, universities, or other nonprofit training organizations will be selected to conduct OSHA courses for private sector personnel and Federal personnel from agencies other than OSHA.

What Will Be the Geographic Distribution of the OSHA Training Institute Education Centers?

One OSHA Training Institute Education Center will be selected in each OSHA Region. However, OSHA may elect to select more than one OSHA Training Institute Education Center in some OSHA Regions. The Regions contain the following states.

1. Region I: Connecticut, Maine, Massachusetts, New Hampshire, Rhode Island, and Vermont.

2. Region II: New Jersey, New York, Puerto Rico, and Virgin Islands.

3. Region III: Delaware, District of Columbia, Maryland, Pennsylvania, Virginia, and West Virginia.

4. Region IV: Alabama, Florida, Georgia, Kentucky, Mississippi, North Carolina, South Carolina, and Tennessee.

5. Region V: Illinois, Indiana, Michigan, Minnesota, Ohio, and Wisconsin.

6. Region VI: Arkansas, Louisiana, New Mexico, Oklahoma, and Texas.

7. Region VII: Iowa, Kansas, Missouri, and Nebraska.

8. Region VIII: Colorado, Montana, North Dakota, South Dakota, Utah, and Wyoming.

9. Region IX: American Samoa, Arizona, California, Guam, Hawaii, Nevada, and Trust Territories of the Pacific.

10. Region X: Alaska, Idaho, Oregon, and Washington.

Do Current OSHA Training Institute Education Centers Have To Reapply?

Current OSHA Training Institute Education Centers must reapply for the opportunity to remain in the program.

Which OSHA Training Institute Courses Will I Be Required To Present?

If your organization is selected to participate as an OSHA Training Institute Education Center, you will be required to present the following seven courses: #500 Trainer Course in Occupational Safety and Health Standards for the Construction Industry, #501 Trainer Course in Occupational Safety and Health Standards for General Industry, #502 Update for Construction Industry Outreach Trainers, #503 Update for General Industry Outreach Trainers, #510 Occupational Safety and Health Standards for the Construction Industry, #511 Occupational Safety and Health Standards for General Industry, and #600 Collateral Duty Course for Other Federal Agencies.

In addition, you will be required to present at least five of the following courses: #201A Hazardous Materials; #204A Machinery and Machine Guarding Standards; #222A Respiratory Protection; #225 Principles of Ergonomics Applied to Work-Related Musculoskeletal and Nerve Disorders; #226 Permit-Required Confined Space Entry; #309A Electrical Standards; #301 Excavation, Trenching and Soil Mechanics; #311 Fall Arrest Systems; and #521 OSHA Guide to Industrial Hygiene.

A brief description of each of the courses may be found in the attachment to this notice.

OSHA may increase or decrease the number of different courses available to be offered by the OSHA Training Institute Education Centers.

What Criteria Will Be Used To Select OSHA Training Institute Education Centers?

Applicants will be selected based upon their occupational safety and health experience, their nonacademic training background, the availability of classrooms, laboratories, and conference facilities, access to transportation and lodging at their resident location, and their capability to provide training throughout their Region.

Who Is Eligible To Apply?

Any nonprofit public or private college or university is eligible to apply. Any other nonprofit organization that can demonstrate that training or education is part of its mission and that more than 50 percent of its staff and dollar resources is devoted to training or education is also eligible.

Does OSHA Provide Funding to the OSHA Training Institute Education Centers?

OSHA provides no funding to the OSHA Training Institute Education Centers. The OSHA Training Institute Education Centers will be expected to support their OSHA training through their normal tuition and fee structures.

If Selected, How Long Would I Be an OSHA Training Institute Education Center?

Selected applicants will sign nonfinancial cooperative agreements with OSHA effective October 1, 2002 through September 30, 2007. With satisfactory performance, agreements may be renewed without competition for an additional five years.

What Geographic Criteria Must I Meet?

You must have a physical presence in the OSHA Region for which you are applying. For example, an eligible national organization based in San Francisco that has a training facility in Chicago would have a physical presence in Region V. On the other hand, a national organization based in New York City that rents hotel space to provide training at multiple sites around the country would be considered to have a physical presence only in Region II.

In addition, you must demonstrate the capability to locate satellite downlink sites for use by Federal and State employees and private sector employers and employees to receive satellite delivered training from the OSHA Training Institute. At a minimum, you should identify potential satellite downlink sites in all cities with a Federal or State compliance office or State Consultation office as well as other major population centers within your Region.

Is It Possible for Me To Join With Another Organization and for Us To Apply Together?

You may join with one or more other nonprofit organizations in your Region to apply as a consortium. A training or education institution may elect to apply for this program in partnership with a safety and health organization that is not primarily a training organization. For example, a university could enter into an agreement with a labor union that provides for the use of university classrooms and faculty supplemented by union safety and health professionals.

What Responsibilities Will I Have as an OSHA Training Institute Education Center?

An OSHA Training Institute Education Center you will be responsible for the following.

1. Ensuring that instructors are qualified in the subjects they will be teaching.

2. Arranging for course chairpersons to attend OSHA orientation for each OSHA Training Institute course for which they are the chair.

3. Scheduling courses. Courses are to be scheduled on a year-round basis with each course being offered at least once a year. Education Centers will be expected to schedule courses at various locations throughout their Region. In addition, OSHA Training Institute Education Centers will be expected to average conducting at least two courses per month and to train an average 75 students per month.

4. Publicizing the availability of courses.

5. Registering students.

6. Acquiring audiovisual materials for use in the courses.

7. Reproducing handouts for students.

8. Conducting courses in accordance with materials and instructions provided by OSHA.

9. Monitoring courses to ensure that OSHA course outlines are being followed.

10. Collecting course evaluation data from students in accordance with OSHA procedures and providing that data to OSHA.

11. Maintaining student registration and attendance records.

12. Issuing course completion certificates to students. These certificates, which certify that a student has completed training in a particular course, must be approved by OSHA.

13. Providing the OSHA Training Institute with registers of successful course completers.

14. Providing the OSHA Training Institute with an annual schedule showing the date, time, and location of every OSHA course to be offered.

15. Maintaining clearly identifiable records of tuition and fees collected from OSHA course students.

16. Arranging for the availability of appropriate accommodations for students.

17. Administering Outreach Training Program activities. This includes distributing student cards to active Outreach Training Program trainers and providing trainer and student information to the OSHA Training Institute on a regular basis.

What Is the Outreach Training Program?

The Outreach Training Program is a voluntary program through which OSHA authorizes trainers to conduct 10- and 30-hour training courses on occupational safety and health hazards and standards. Persons who successfully complete either OSHA Training Institute course #500 Trainer Course in Occupational Safety and Health Standards for the Construction Industry or #501 Trainer Course in Occupational Safety and Health Standards for General Industry are authorized to present 10- and 30-hour training courses, to submit training documentation to OSHA, and to present course completion cards signed by the OSHA Training Institute Director to their students.

Construction outreach trainers must attend #502 Update for Construction Industry Outreach Trainers once every four years to maintain their active status, while general industry outreach trainers must attend #503 Update for General Industry Outreach Trainers once every four years to maintain their active status.

What Are the OSHA Training Institute's responsibilities?

The OSHA Training Institute is responsible for the following.

1. Providing OSHA Training Institute Education Center course chairpersons with orientation on how the OSHA Training Institute teaches the course.

2. Providing a detailed course outline for each OSHA course to be presented by the OSHA Training Institute Education Centers.

3. Providing a master copy of the student handouts for each course to be presented.

4. Providing answers and technical assistance on questions of OSHA policy.

5. Monitoring the performance of OSHA Training Institute Education Centers through on-site visits including unannounced attendance at courses and examination of records.

6. Evaluating the effectiveness of the OSHA Training Institute Education Centers.

What Is the Purpose of the Proposal Conferences?

The proposal conferences are intended to provide potential applicants with information about the OSHA Training Institute, OSHA Training Institute courses and methods of instruction, and administrative and program requirements for OSHA Training Institute Education Centers. The OSHA Office of Training and Education will hold three proposal conferences.

When and Where Will the Proposal Conferences Be Held?

The proposal conferences are scheduled for:

March 19, 2002, from 1 pm to 3 pm PST, 71 Stevenson Street, Room 1010, San Francisco, California.

March 26, 2002, from 1 pm to 3 pm EST, Gateway Building, 3535 Market Street, Conference Rooms A & B, Suite 690 West, Philadelphia, Pennsylvania 19104.

April 4, 2002, from 1 pm to 3 pm CST, at the OSHA Office of Training and Education, 1555 Times Drive, Des Plaines, Illinois 60018.

If you are interested in attending one of these conferences, you may contact Ronald Mouw, Deputy Director, or Ernest B. Thompson, Chief, Division of Training and Educational Programs, OSHA Office of Training and Education, 1555 Times Drive, Des Plaines, Illinois 60018, telephone (847) 297-4810 for information about local accommodations and transportation. It is not necessary to register for the conferences.

What Must I Include in the Application?

You must address each of the following points in your application.

1. Identifying Information. Provide the name and address of your organization. If the mailing address is a post office box, also provide the street address. Provide the name, title, and telephone number of the contact person who can answer questions about the application.

2. Authority to Apply. Provide a copy of the resolution by the Board of Directors, Board of Regents, or other governing body of your organization approving the submittal of an application to OSHA to become an OSHA Training Institute Education Center.

3. Nonprofit Status. Include evidence of the nonprofit status of your organization and of each member organization if you are applying as a consortium. A letter from the Internal Revenue Service or a statement included in a recent audit report is preferred. In the absence of either of these, a copy of the articles of incorporation showing the nonprofit status will be accepted.

4. Status as a Training Organization. This section applies only to applicants that are not colleges or universities. Show that training or education is a principal activity of your organization. Through audit reports, annual reports, or other documentation, demonstrate that for the last two years more than 50 percent of your organization's funds has been used for training and education activities and that more than 50 percent of its staff resources has also been used for this purpose.

5. Occupational Safety and Health Training Experience. Describe your organization's relevant course offerings for the last two years. Include copies of catalogs and other recruitment materials that provide descriptive material about courses. For each course, include the dates the course was offered and the number of students who completed the course. Also provide descriptive material including course descriptions and number of hours that is similar to the information contained in the appendix to this Notice.

6. OSHA Training Institute Courses. Provide a list of the OSHA Training Institute courses that your organization would offer.

7. Staff Qualifications. Describe the qualifications of staff teaching occupational safety and health courses. Indicate the professional qualifications of each, such as Certified Safety Professional (CSP), Professional Engineer (PE), or Certified Industrial Hygienist (CIH). Also describe staff knowledge of and experience with OSHA standards and their application to hazards and hazard abatement. Include resumes of current staff and position descriptions and minimum hiring qualifications for all positions, whether filled or vacant, that may be assigned to conduct OSHA classes.

8. Classroom Facilities. Describe classroom facilities available for presentation of the courses. Include number of students accommodated, desk arrangements, and availability of audiovisual equipment. Also describe appropriate laboratory facilities and other facilities available for hands-on exercises. Indicate provisions for accessibility for persons with disabilities.

9. Distance Learning. Describe plans for identifying satellite downlink sites in your Region for receiving OSHA Training Institute broadcasts. Identify the types of organizations that would be contacted and the information that would be made available to the OSHA Training Institute to ensure a successful broadcast.

10. Outreach Training Program. Provide a description of the systems that would be in place to administer the Outreach Training Program and to assure its integrity including maintaining records, ensuring that only authorized trainers receive student cards, reviewing requests for student cards, and distributing student cards.

11. Tuition. Provide a copy of your organization's tuition and fee schedule. Explain how tuition or fees will be computed for each course, referencing the schedule.

12. Recruitment and Registration. Explain procedures for recruiting students from the private sector and from Federal agencies other than OSHA. Describe registration procedures including provisions for cancellation, furnishing enrollees with hotel information, and tuition or fee collection.

13. Location. Describe the accessibility of the training facility for students. Include such items as distance from a major airport, number of airlines serving the airport, transportation from the airport to hotels, and distance from the interstate system.

14. Accommodations. Provide a representative listing of hotels available for student accommodation and give sample room rates. Explain how students will be transported between the hotels and classes. Describe the food service and restaurants available both in the area in which the classes will be held and in the area where the hotels are located.

15. Off-site Courses. Successful applicants will be expected to conduct courses at sites other than their own facilities, especially in other states in their Region. Describe your organization's plan to provide off-site training in your Region including procedures to assure that classroom facilities and accommodations are adequate.

16. Nondiscrimination. Provide copies of your organization's nondiscrimination policies covering staff and students. In the absence of a written policy, explain how you will ensure that staff and students are selected without regard to race, color, national origin, sex, age, or disability.

Where Should I Submit My Application?

Your application must be submitted to the OSHA Office of Training and Education, Division of Training and Educational Programs, 1555 Times Drive, Des Plaines, Illinois 60018. The submission is to consist of one original and two copies of the application. Your application should not be bound or stapled and should only be printed on one side of the page.

When Must I Submit My Application?

Your application must be received no later than 4:30 pm CST on May 3, 2002.

How Will My Application Be Reviewed?

A panel of OSHA staff will review your application and will consider each of the factors listed below.

1. Occupational Safety and Health Training Experience. Evidence that occupational safety and health training or education has been an ongoing program of your organization. Reviewers will examine the number of different occupational safety and health courses offered by your organization, the number of students completing each course, and the number of times each course was offered. Successful applicants will also include samples of course announcements.

2. Qualifications of Staff. For personnel teaching occupational safety and health courses this includes academic training in occupational safety and health subjects, experience with the application of OSHA standards to hazards and hazard abatement, professional certification, practical experience in the field of occupational safety and health, and experience in training workers or managers in nonacademic situations.

3. Outreach Training Program. Plans for administering the Outreach Training Program and ensuring program integrity will be reviewed.

4. Location. A major airport with regular service to all parts of the Region should be within a reasonable driving time from the training location and the hotel. Interstate highways should also be within reasonable distance.

5. Adequacy of Training Facilities. Potential for accommodating classes of 25 to 40 students on a year-round basis in settings comparable to those of the OSHA Training Institute will be reviewed. Items considered will include classroom layout, availability of audiovisual equipment, reproduction facilities for handouts, and availability of appropriate laboratory and hands-on facilities. Accessibility for persons with disabilities will also be considered.

6. Distance Learning. Successful applicants will demonstrate the capability to identify satellite downlink sites in their Region for use by Federal and State employees and private sector employers and employees to receive satellite delivered training from the OSHA Training Institute. At a minimum, you should identify potential satellite downlink sites in all cities with a Federal or State compliance office or State Consultation office as well as other major population centers within your Region.

7. Recruitment and Registration Procedures. Reasonableness of your organization's procedures for recruiting and registering students including methods of reaching potential students, ease of registration, provisions for cancellations, and system for informing students of available accommodations are among the items that will be reviewed.

8. Accommodations. Accommodations, preferably national hotel/motel chains and restaurants, should be reasonably priced and should be within a few miles of the training facility.

9. Tuition. Conformance of proposed tuition or fees with the established policies of the applicant and reasonableness of the charges will be considered.

10. Off-site Courses. Experience and the ability of your organization to conduct courses at sites other than its own facility will be considered.

11. Nondiscrimination. Adherence of your organization's policies with Federal requirements will be reviewed.

Who Will Select the OSHA Training Institute Education Centers?

The OSHA review panel will make recommendations to the Assistant Secretary, who will make the final decisions.

How Will I Be Notified If My Application Was Selected?

You will be notified by a representative of the Assistant Secretary if your organization is selected as an OSHA Training Institute Education Center. An organization may not conduct OSHA Training Institute Education Center activities until it has signed a nonfinancial cooperative agreement with OSHA.

How Will I Be Notified If My Application Is Not Selected?

You will be notified in writing if your organization is not selected to be an OSHA Training Institute Education Center.

Can I Appeal If I Am Not Selected?

There is no appeal procedure for unsuccessful applicants. You may request a copy of the documentation of the review of your application by writing to Ernest B. Thompson, Chief, Division of Training and Educational Programs, OSHA Office of Training and Education, Division of Training and Educational Programs, 1555 Times Drive, Des Plaines, Illinois 60018.

Signed at Washington, DC, this 14th day of February.
John L. Henshaw,
Assistant Secretary of Labor.

Attachment

#201A Hazardous Materials. This course covers OSHA general industry standards and integrates materials from other consensus and proprietary standards that relate to hazardous materials. Included are flammable and combustible liquids, compressed gases, LP-gases, and cryogenic liquids. Related processes such as spraying and dipping are covered, as well as electrical equipment. (5 days)

#204A Machinery and Machine Guarding Standards. This course familiarizes the student with various types of common machinery and the related safety standards. Guidance is provided on the hazards associated with various kinds of machinery and the control of hazardous energy sources (lockout/tagout). The course presents an approach to machinery inspection that enables participants to recognize hazards and to provide options to achieve abatement. These hazards include mechanical motions and actions created by points of operation and other machinery processes. Also included is hands-on training in the laboratories. (5 days)

#222A Respiratory Protection. This course covers the requirements for the establishment, maintenance, and monitoring of a respirator program. Topics include terminology, OSHA standards, NIOSH certification, and medical evaluation recommendations. Course highlights include laboratories on respirator selection, qualitative fit testing, and the use of a large array of respiratory and support equipment for hands-on training. (4 days)

#225 Principles of Ergonomics Applied to Work-Related Musculoskeletal and Nerve Disorders. This course covers the use of ergonomic principles to prevent Musculoskeletal disorders. Topics include work physiology, anthropometry, Musculoskeletal disorders, video display terminals, and risk factors such as vibration, temperature, material handling, repetition, and lifting and transfers in health care. Course features industrial case studies covering analysis and design of work stations and equipment, laboratory sessions in manual lifting, and coverage of current OSHA compliance policies. (4 days)

#226 Permit-Required Confined Space Entry. This course is designed to enable students to recognize, evaluate, control, and abate safety and health hazards associated with permit-required confined space entry. The course focuses on the specific requirements of 29 CFR 1910.146 (a) through (l). Each paragraph of the standard is discussed with references to the OSHA directive, letters of interpretation, and preamble rationale. Technical topics include the recognition of confined space hazards, basic information about instrumentation used to evaluate atmospheric hazards, and general permit space ventilation techniques. Course features workshops on confined space classification permits and program evaluation. (4 days)

#301 Excavation, Trenching and Soil Mechanics. This course focuses on OSHA standards and on the safety aspects of excavation and trenching. Students are introduced to practical soil mechanics and its relationship to the stability of shored and unshored slopes and walls of excavations. Various types of shoring (wood timbers and hydraulic) are covered. Testing methods are demonstrated and a one-half-day field exercise is conducted, allowing students to use instruments such as penetrometers, torvane shears, and engineering rods. (4 days)

#309A Electrical Standards. This course is designed to provide the student with a survey of OSHA's electrical standards and the hazards associated with electrical installations and equipment. Topics include single- and three-phase systems, cord- and plug-connected and fixed equipment, grounding, ground fault circuit interrupters, and safety-related work practices. Emphasis is placed on electrical hazard recognition and OSHA inspection procedures. Hands-on training is provided using various types of electrical test equipment. (5 days)

#311 Fall Arrest Systems. This course provides an overview of state-of-the-art technology for fall protection and current OSHA requirements. Topics covered include the principles of fall protection, the components of fall arrest systems, the limitations of fall arrest equipment, and OSHA policies regarding fall protection. Course features a one-day field exercise demonstrating fall protection equipment. (4 days)

#500 Trainer Course in Occupational Safety and Health Standards for the Construction Industry. This course is designed for personnel in the private sector interested in teaching the 10- and 30-hour construction safety and health outreach program to their employees and other interested groups. Special emphasis is placed on those topics that are required in the 10- and 30-hour programs as well as on those that are the most hazardous, using OSHA standards as a guide. Course participants are briefed on effective instructional approaches and the effective use of visual aids and handouts. This course allows the student to become a trainer in the Outreach Program and to conduct both a 10- and 30-hour construction safety and health course and to issue cards to participants verifying course completion. (5 days)

#501 Trainer Course in Occupational Safety and Health Standards for General Industry. This course designed for private sector personnel presents detailed information on how the provisions of the OSH Act may be implemented in the workplace. Rights and responsibilities under the OSH Act, the appeals process, and recordkeeping are covered. The course also includes an introduction to OSHA's general industry standards and an overview of the requirements of the more frequently referenced standards. This course allows the student to become a trainer in the Outreach Program and to conduct both a 10- and 30-hour general industry course and issue cards to participants verifying course completion. (5 days)

#502 Update for Construction Industry Outreach Trainers. This course is designed for personnel in the private sector who have completed #500 Trainer Course in Occupational Safety and Health Standards for the Construction Industry and who are active trainers in the outreach program. It provides an update on such topics as OSHA construction standards, policies, and regulations. (3 days)

#503 Update for General Industry Outreach Trainers. This course is designed for private sector personnel who have completed course #501 Trainer Course in Occupational Safety and Health Standards for General Industry and who are active trainers in the outreach program. It provides an update on OSHA general industry standards and OSHA policies. (3 days)

#510 Occupational Safety and Health Standards for the Construction Industry. This course for private sector personnel covers OSHA policies, procedures, and standards, as well as construction safety and health principles. Topics include scope and application of the OSHA construction standards. Special emphasis is placed on those areas that are the most hazardous, using OSHA standards as a guide. Upon successful course completion, the student will receive an OSHA construction safety and health 30-hour course completion card. (5 days)

#511 Occupational Safety and Health Standards for General Industry. This course for private sector personnel covers OSHA policies, procedures, and standards, as well as general industry safety and health principles. Topics include scope and application of the OSHA general industry standards. Special emphasis is placed on those areas that are the most hazardous, using OSHA standards as a guide. Upon successful course completion, the student will receive an OSHA general industry safety and health 30-hour course completion card. (5 days)

#521 OSHA Guide to Industrial Hygiene. This course for private sector personnel covers industrial hygiene practices and related OSHA regulations and procedures. Topics include permissible exposure limits, OSHA health standards, respiratory protection, engineering controls, hazard communication, OSHA sampling procedures and strategy, workplace health program elements, and other industrial hygiene topics. Course highlights include workshops in health hazard recognition, OSHA health standards, and a safety and health program workshop. (5 days)

#600 Collateral Duty Course for Other Federal Agencies. This course introduces Federal agency collateral duty (part-time) safety and health personnel to the OSH Act, Executive Order 12196, 29 CFR part 1960, and 29 CFR part 1910. It enables them to recognize basic safety and health hazards in their own workplaces and to effectively assist agency safety and health officers in their inspection and abatement efforts. The course features a mock inspection of a government facility. (5 days)

[FR Doc. 02-4173 Filed 2-20-02; 8:45 am]

BILLING CODE 4510-26-P